FEDERAL COMMUNICATIONS COMMISSION

[CC Docket Nos. 96-262, 91-213; DA 04-2997]

Reconsideration of Price Cap Carrier Reallocation of General Support Facilities Costs

AGENCY: Federal Communications Commission.

ACTION: Notice; termination of proceedings.

SUMMARY: This document is a notification of final termination of the petitions for reconsideration of a 1997 Commission order regarding the reallocation of costs of general purpose computers and other general support facilities to the billing and collection account for incumbent local exchange carriers subject to price cap regulation. The petitions for reconsideration have been withdrawn by the petitioners. No oppositions to the prior notice of termination were received; therefore, interested parties are hereby notified that this proceeding has been terminated.

DATES: This proceeding was terminated effective September 9, 2004.

FOR FURTHER INFORMATION CONTACT: Jennifer McKee, Wireline Competition Bureau, Pricing Policy Division, (202) 418-1530.

SUPPLEMENTARY INFORMATION: On July 22, 2004, the Wireline Competition Bureau's Pricing Policy Division issued a Public Notice in the Access Charge Reform Third Report and Order reconsideration proceeding stating that the proceeding would be terminated effective 30 days after publication of the Public Notice in the Federal Register, unless the Bureau received oppositions to the termination before that date. The notice was published in the Federal Register on August 10, 2004. See 69 FR 48492, August 10, 2004. The Bureau did not receive any oppositions to the termination of this proceeding within 30 days of Federal Register publication of the notices; therefore, this proceeding was terminated as of September 9, 2004.

Authority: 47 U.S.C. 152, 153, 154, 155, 303; 44 FR 18501, 67 FR 13223, 47 CFR 0.291, 1.749.

Federal Communications Commission.
Jeffrey J. Carlisle,
Chief, Wireline Competition Bureau.

[FR Doc. 04-21732 Filed 9-27-04; 8:45 am]

BILLING CODE 6712-01-P